DEPARTMENT OF DEFENSE

Office of the Secretary

[Docket ID: DoD-2022-OS-0091]

Submission for OMB Review; Comment Request

AGENCY: Chief Information Officer, Department of Defense (DoD).

ACTION: 30-Day information collection notice.

SUMMARY: The DoD has submitted to the Office of Management and Budget (OMB) for clearance the following proposal for collection of information under the provisions of the Paperwork Reduction Act.

DATES: Consideration will be given to all comments received by November 25, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, 571-372-7574, whs.mc-alex.esd.mbx.dd-dod-information-collections@mail.mil.

SUPPLEMENTARY INFORMATION:

Title; Associated Form; And OMB Number: DoD's Defense Industrial Base Cybersecurity Activities Cyber Incident Reporting; OMB Control Number 0704-0489.

Type of Request: Extension without change.

Number of Respondents: 8,500.

Responses per Respondent: 5.

Annual Responses: 42,500.

Average Burden per Response: 2 hours.

Annual Burden Hours: 85,000.

Needs and Uses: This information collection is necessary for the reporting and sharing of cyber incident information from DoD contractors in accordance with 32 CFR part 236, “DoD Defense Industrial Base (DIB) Cybersecurity (CS) Activities,” which authorizes the DIB CS Program. Sharing cyber incident information is critical to DoD's understanding of cyber threats against DoD information systems, programs, and warfighting capabilities. This information helps DoD to inform and mitigate adversary actions that may affect DoD information residing on or transiting unclassified defense contractor networks.

Affected Public: Business or other for-profit; Not-for-profit Institutions.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela Duncan.

Requests for copies of the information collection proposal should be sent to Ms. Duncan at whs.mc-alex.esd.mbx.dd-dod-information-collections@mail.mil.

Dated: October 19, 2022.
Kayyonne T. Marston,
Alternate OSD Federal Register, Liaison Officer, Department of Defense.

[FR Doc. 2022-23092 Filed 10-24-22; 8:45 am]

BILLING CODE 5001-06-P